DEPARTMENT OF DEFENSE

Department of the Army

Availability for Non-Exclusive, Exclusive, or Partially Exclusive Licensing of U.S. Patent Application Concerning Prolonged Storage of Red Blood Cells

AGENCY: U.S. Army Medical Research and Materiel Command, Department of the Army, DoD.

ACTION: Notice.

SUMMARY: In accordance with 37 CFR 404.6, announcement is made of the availability for licensing of U.S. Patent Application Serial No. 09/154,102 entitled “Prolonged Storage of Red Blood Cells”, filed 16 September 1998. This patent has been assigned to the United States Government as represented by the Secretary of the Army.

ADDRESSES: Commander, U.S. Army Medical Research and Material Command, ATTN: Command Judge Advocate, MCMR-JA, 504 Scott Street, Fort Detrick, Frederick, Maryland 21702-5012.

FOR FURTHER INFORMATION CONTACT: Mr. Jay P. Winchester, Attorney-Advisor, (301) 619-2065 or telefax (301) 619-5034.

SUPPLEMENTARY INFORMATION: The invention discloses novel additive solutions useful for the storage of human red blood cells (RBCs) under refrigerated conditions. Also disclosed is a method of using the additive solutions in an appropriate volume to preserve RBCs at about 1° to 6° for up to 10 weeks. Additive solutions and processes in accordance with this invention allow the viable storage of human RBCs for an extended period of time in a solution which is directly infusible into humans.

Gregory D. Showalter,
Army Federal Register Liaison Officer.

[FR Doc. 00-10638 Filed 4-27-00; 8:45 am]

BILLING CODE 3710-08-M